DEPARTMENT OF COMMERCE

Foreign-Trade Zones Board

[Order No. 1935]

Reorganization of Foreign-Trade Zone 37 (Expansion of Service Area) Under Alternative Site Framework; Orange County, New York

Pursuant to its authority under the Foreign-Trade Zones Act of June 18, 1934, as amended (19 U.S.C. 81a-81u), the Foreign-Trade Zones Board (the Board) adopts the following Order:

Whereas, the Board adopted the alternative site framework (ASF) (15 CFR § 400.2(c)) as an option for the establishment or reorganization of zones;

Whereas, the County of Orange, grantee of Foreign-Trade Zone 37, submitted an application to the Board (FTZ Docket B-14-2013, docketed 2-11-2013) for authority to expand the service area of the zone to include Rockland County, as described in the application, adjacent to the Newark/New York Customs and Border Protection port of entry;

Whereas, notice inviting public comment was given in the Federal Register (78 FR 12033-12034, 2-21-2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 37 to expand the service area under the ASF is approved, subject to the FTZ Act and the Board's regulations, including Section 400.13, and to the Board's standard 2,000-acre activation limit for the zone.

Signed at Washington, DC, this 16th day of April 2014.
Paul Piquado,
Assistant Secretary of Commerce for Enforcement and Compliance, Alternate Chairman, Foreign-Trade Zones Board.

[FR Doc. 2014-09481 Filed 4-24-14; 8:45 am]

BILLING CODE 3510-DS-P